DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than January 25, 2016.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: HIV Quality Measures (HIVQM) Module OMB No. 0915-xxxx-New.

Abstract: The Ryan White HIV/AIDS Program (RWHAP) provides entities funded by the program with flexibility to respond effectively to the changing HIV epidemic, with an emphasis on providing life-saving and life-extending services for people living with HIV. Under the Ryan White HIV/AIDS Treatment Extension Act of 2009, RWHAP Parts A-D recipients are required to establish clinical quality management programs in order to assess their HIV services according to the most recent Department of Health and Human Services guidelines and to develop strategies to improve access to quality HIV services. The HIV Quality Measures (HIVQM) module will be the HIV/AIDS Bureau's (HAB) voluntary online reporting tool created to help facilitate recipients in meeting these requirements. Recipients and their providers will enter aggregate data in the HIVQM module on HAB performance measures and then will be able to generate reports to assess their performance and compare their results to results at the state, regional, and national levels. The HAB performance measures include the following priority performance measure categories: (1) Core (those measures that emphasize essential aspects of care and treatment, align with the milestones along the HIV care continuum, and are most feasible for data collection); (2) all ages; (3) adolescent/adult; (4) HIV-positive children; (5) HIV-exposed children; (6) medical case management; (7) oral health; (8) AIDS Drug Assistance Program (ADAP); and (9) system level measures. The use of the HIVQM module will be voluntary for RWHAP recipients and services providers.

Need and Proposed Use of the Information: The HIVQM Module will be a voluntary online reporting tool that supports recipients in monitoring their performance in serving patients particularly in access to care and the provision of quality HIV services, and to reduce HIV-related morbidity and mortality among people living with HIV/AIDS. These data will help RWHAP recipients document their strengths, identify gaps in performance and areas for improvement, and plan how to enhance future delivery of quality care to their patients.

The HIVQM module will also assist RWHAP recipients in meeting the requirement to construct quality assurance structures in their provision of HIV care services. In addition, for recipients and service providers participating in the Centers for Medicare and Medicaid Incentive Programs, such as the Medicare and Medicaid Electronic Health Records Incentive Program and the Physician Quality Reporting System, the module will be consistent to qualify and comply with the requirements to receive incentives from these programs. Finally, the module will assist HAB in identifying recipients and service providers that are supporting the aims of the National HIV/AIDS Strategy in establishing a system that links HIV positive individuals to continuous and coordinated quality care.

The module will be available for data entry 3 times a year. The module will be accessible via the HRSA Electronic Handbook (EHB) Ryan White Services Report (RSR) portal, an existing online tool that RWHAP recipients already use for required data collection on their services. Recipients will choose which performance measures they want to monitor and enter data accordingly. Reports of performance measures can be generated and reviewed by the recipients or their service providers and can be compared to results at the state, regional, and national levels.

Likely Respondents: Ryan White HIV/AIDS Program Part A, Part B, Part C, and Part D recipients and their service providers and the AIDS Drug Assistance Program recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Average burden per response (in hours) | Total burden hours
HIVQM module | 1,100 | 3 | 3,300 | 4 | 13,200
Total | 1,100 | 3 | 3,300 | 4 | 13,200

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2015-29948 Filed 11-24-15; 8:45 am]

BILLING CODE 4165-15-P